DEPARTMENT OF VETERANS AFFAIRS

Geriatrics and Gerontology Advisory Committee; Notice of Meeting

The Department of Veterans Affairs (VA) gives notice under Public Law 92-463 (Federal Advisory Committee Act) that a meeting of the Geriatrics and Gerontology Advisory Committee will be held on September 18-19, 2008, in Room 630, Department of Veterans Affairs, 810 Vermont Avenue, NW., Washington, DC. On September 18, the session will begin at 8:30 a.m. and end at 5 p.m. On September 19, the session will begin at 8 a.m. and end at 12 noon. This meeting is open to the public.

The purpose of the Committee is to provide advice to the Secretary of Veterans Affairs and the Under Secretary for Health on all matters pertaining to geriatrics and gerontology. The Committee assesses the capability of VA health care facilities and programs to meet the medical, psychological, and social needs of older veterans and evaluates VA programs designated as Geriatric Research, Education, and Clinical Centers.

The meeting will feature presentations and discussion on VA's aging research activities, update on VA's geriatric workforce (to include training, recruitment and retention approaches), Veterans Health Administration (VHA) Geriatric Primary Care, VHA strategic planning activities in geriatrics and extended care, recent VHA efforts regarding dementia and long term care needs of recently returning veterans, program advances in Community Living Centers and palliative care, and policy guidance and performance oversight of the VA Geriatric Research, Education, and Clinical Centers.

No time will be allocated at this meeting for receiving oral presentations from the public. Interested parties should provide written comments for review by the Committee not less than ten days in advance of the meeting to Mrs. Marcia Holt-Delaney, Office of Geriatrics and Extended Care (114), Department of Veterans Affairs, 810 Vermont Avenue, NW., Washington, DC 20420. Individuals who wish to attend the meeting should contact Mrs. Holt-Delaney, Program Analyst, at (202) 461-6769.

Dated: July 30, 2008.
By Direction of the Secretary.
E. Philip Riggin,
Committee Management Officer.

[FR Doc. E8-17898 Filed 8-4-08; 8:45 am]

BILLING CODE 8320-01-P